DEPARTMENT OF ENERGY

Federal Energy Regulatory Commission

[Docket Nos. RP00-346-001 and RP01-16-001]

Dauphin Island Gathering Partners; Notice of Compliance Filing

August 12, 2002.

Take notice that on August 2, 2002, Dauphin Island Gathering Partners (Dauphin Island) tendered for filing as part of its FERC Gas Tariff, First Revised Volume No. 1, the revised tariff sheets identified at Appendix A to the filing.

Dauphin Island states that the revised tariff sheets are being filed to comply with the Commission's July 3, 2002 Order in the referenced proceeding, which relates to Dauphin Island's previous filings to comply with Order Nos. 637, 637-A, and 637-B.

Dauphin Island states that copies of the filing are being served contemporaneously on all participants listed on the service list in this proceeding and on all persons who are required by the Commission's regulations to be served with the application initiating these proceedings.

Any person desiring to protest said filing should file a protest with the Federal Energy Regulatory Commission, 888 First Street, NE., Washington, DC 20426, in accordance with Section 385.211 of the Commission's Rules and Regulations. All such protests must be filed on or before August 19, 2002. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. Comments, protests and interventions may be filed electronically via the Internet in lieu of paper. The Commission strongly encourage electronic filings. See, 18 CFR 385.2001(a)(1)(iii) and the instructions on the Commission's Web site under the “e-Filing” link.

Linwood A. Watson, Jr.,
Deputy Secretary.

[FR Doc. 02-20833 Filed 8-15-02; 8:45 am]

BILLING CODE 6717-01-P